DEPARTMENT OF ENERGY

Federal Energy Regulatory Commission

[Docket No. EL05-107-000]

Oklahoma Gas and Electric Company; OGE Energy Resources, Inc.; Notice of Institution of Proceeding and Refund Effective Date

January 20, 2006.

On June 7, 2005, the Commission issued an order that instituted a proceeding in Docket No. EL05-107-000, pursuant to section 206 of the Federal Power Act (FPA), 15 U.S.C. 824e, concerning the justness and reasonableness of the OGE Companies market-based rates in the OG&E control area.¹

The refund effective date in Docket No. EL05-107-000, established pursuant to section 2069(b) of the FPA, will be 60 days from the date of publication of this notice in the Federal Register.

Magalie R. Salas,
Secretary.

¹ Oklahoma Gas and Electric Company and OGE Resources, Inc., 111 FERC § 61,368 (2005). The OGE Companies are Oklahoma Gas and Electric Company and OGE Energy Resources.

[FR Doc. E6-986 Filed 1-25-06; 8:45 am]

BILLING CODE 6717-01-P